ENVIRONMENTAL PROTECTION AGENCY

40 CFR Part 52

[EPA-R03-OAR-2020-0325; FRL-10364-02-R3]

Air Plan Approval; Maryland; Clean Data Determination and Approval of Select Attainment Plan Elements for the Anne Arundel County and Baltimore County, MD Sulfur Dioxide Nonattainment Area

AGENCY: Environmental Protection Agency (EPA).

ACTION: Final rule.

SUMMARY: The Environmental Protection Agency (EPA) is making a determination that the the Anne Arundel County and Baltimore County, Maryland sulfur dioxide (SO2) nonattainment area has attained the 2010 primary SO2 national ambient air quality standard (2010 SO2 NAAQS). Under EPA's Clean Data Policy, certain Clean Air Act (CAA) planning requirements are suspended for a nonattainment area when EPA issues a determination that air quality data demonstrate that the NAAQS is being attained. EPA deems these suspended CAA requirements as no longer applicable for as long as air quality continues to meet the NAAQS. EPA is also simultaneously approving elements of Maryland's January 31, 2020 state implementation plan (SIP) revision submittal containing an attainment plan for the Anne Arundel County and Baltimore County SO2 nonattainment area (referred to hereafter as the Anne Arundel-Baltimore County Area, or simply the Area). The attainment plan elements EPA is approving are not suspended by a determination of attainment under EPA's Clean Data Policy, because EPA considers them independent of planning requirements that are designed to help the area attain the NAAQS. Finally, EPA is approving as SIP strengthening measures certain emission limit requirements on large SO2 emission sources that were submitted as part of Maryland's attainment plan. This clean data determination (CDD) and partial approval of Maryland's attainment plan SIP revision does not constitute redesignation of the Area to attainment or full approval of the submitted attainment plan. This action is being taken under the CAA.

DATES: This final rule is effective on December 2, 2022.

ADDRESSES: EPA has established a docket for this action under Docket ID Number EPA-R03-OAR-2020-0325. All documents in the docket are listed on the www.regulations.gov website. Although listed in the index, some information is not publicly available, e.g., confidential business information (CBI) or other information whose disclosure is restricted by statute. Certain other material, such as copyrighted material or voluminous modeling files, are either available for download on the internet (as described in a docket file index) or are not placed on the internet and will be publicly available only in hard copy form. Publicly available docket materials are available through www.regulations.gov, or please contact the person identified in the FOR FURTHER INFORMATION CONTACT section for additional availability information.

FOR FURTHER INFORMATION CONTACT: Brian Rehn, Planning and Implementation Branch (3AD30), Air & Radiation Division, U.S. Environmental Protection Agency, Region III, Four Penn Center, 1600 John F. Kennedy Boulevard, Philadelphia, Pennsylvania 19103. The telephone number is (215) 814-2176. Mr. Rehn can also be reached via electronic mail at rehn.brian@epa.gov.

SUPPLEMENTARY INFORMATION: Throughout this document whenever “we,” “us,” or “our” is used, we mean EPA.

I. Background

On August 19, 2022 (87 FR 51006), EPA proposed to determine that the Anne Arundel-Baltimore County nonattainment area is attaining the 2010 SO2 NAAQS, based on complete, quality assured, and certified ambient air quality monitoring data and an EPA-prepared air dispersion modeling analysis of SO2 emission sources in the Area. This determination of attainment, also referred to as a CDD, suspends certain planning requirements for the nonattainment area for as long as the area continues to attain the 2010 SO2 NAAQS. EPA proposed to require the Maryland Department of Environment (MDE) to submit annual statements to EPA (due by July 1 of each year after the final CDD), to address whether the Area continues to attain the 2010 SO2 NAAQS. EPA expects that these statements would include at least available air quality monitoring data, an assessment of changes in SO2 emissions from existing or new sources, and discussion of whether these changes warrant updated modeling.

As described in the August 19, 2022 (87 FR 51006) notice of proposed rulemaking (NPRM), EPA's Clean Data Policy allows for the suspension of CAA requirements that are specifically designed to help an area achieve attainment for as long as the nonattainment area continues to attain the NAAQS.¹ A final CDD suspends the obligation to submit: attainment demonstrations, reasonably available control measures and reasonably available control technology (RACM/RACT) emission control measures, reasonable further progress (RFP) demonstrations, emissions limitations and control measures as necessary to provide for attainment, and contingency measures. All remaining CAA 172(c) nonattainment plan provisions not suspended by a final CDD must still be submitted, including requirements not related to attainment planning such as a base year emissions inventory and nonattainment new source review (NNSR) requirements of the plan.

¹ See section VII.C. of EPA's “Guidance for 1-Hour SO2 Nonattainment Area SIP Submissions,” dated April 2014. See also, Memorandum from John S. Seitz, Director, Office of Air Quality Planning and Standards, titled, “Reasonable Further Progress, Attainment Demonstration, and Related Requirements for Ozone Nonattainment areas Meeting the Ozone National Ambient Air Quality Standard,” dated May 10, 1995.

While issuance by EPA of a final CDD suspends certain attainment planning requirements so long as the Area continues to attain the 2010 SO2 NAAQS, a final CDD does not constitute a redesignation of an area to attainment of the 2010 SO2 NAAQS under section 107(d)(3) of the CAA. After issuance of a final CDD, the area remains designated nonattainment for the 2010 SO2 NAAQS until the state formally requests redesignation of the area to attainment, EPA takes formal action to determine that the area meets CAA requirements for redesignation, and EPA approves an accompanying state-submitted maintenance plan that ensures the area will continue to meet the NAAQS for the successive 10-year period.

II. Summary of SIP Revision and EPA Analysis

EPA's August 19, 2022 (87 FR 51006) NPRM proposed to approve into the Maryland SIP the base year emissions inventory and NNSR elements of an attainment plan submitted by the State of Maryland as a SIP revision request on January 30, 2022. Additionally, EPA proposed to approve into the Maryland SIP (as a SIP strengthening measure) two consent orders governing emissions limits on major SO2 sources in the Area that were submitted by Maryland as part of the January 30, 2020 SIP revision. These include a consent order between MDE and Raven Power Fort Smallwood LLC (governing the Wagner and Brandon Shores electric generating stations, both located at the Fort Smallwood Complex) and a consent order between MDE and C.P. Crane LLC (governing the Crane electric generating station).² These consent orders establish enforceable SO2 emission limits and operational limitations at both the Fort Smallwood Complex and the Crane facilities.

² See Appendix B of Maryland's January 30, 2020 attainment plan SIP revision request to EPA. Specifically, Appendix B-1—Consent Order—Brandon Shores and Wagner Generating Stations, dated December 4, 2019; and Appendix B-2—Consent Order—C.P. Crane Generating Station, dated October 9, 2019.

A detailed analysis of EPA's proposed decision was provided in the August 19, 2022 (87 FR 51006) NPRM, and its associated technical support documents (TSDs), and will not be restated here. The public comment period for this NPRM ended on September 29, 2022.

III. Response to Comments

EPA received one citizen comment on the proposed action during the public comment period. That commenter was generally supportive of EPA's proposed CDD and approval of selected Maryland attainment plan elements—specifically the base year emissions inventory for the Area and consent decrees between MDE and two major SO2 emission source owners in the Area. The commenter also suggested additional recommendations to EPA regarding treatment of the Area with respect to nonattainment designation and future planning efforts for the Area. EPA acknowledges these supportive comments. EPA is addressing the commenter's specific comment below.

Comment: Although the commenter agrees with EPA's proposed issuance of a CDD and that the suspension of certain attainment plan elements (e.g., an attainment demonstration) is reasonable and meritorious, the commenter asks that “nonattainment be upheld” and that if Maryland fails in the future to submit a SIP mandated by a nonattainment deadline, then EPA should act expeditiously to enact a Federal Implementation Plan (FIP) to avoid lag of action.

Response: A CDD is not equivalent to a redesignation to attainment under CAA section 107(d)(3). The CAA's requirements pertaining to nonattainment areas continue to apply to this Area (although some nonattainment planning requirements are suspended by the CDD). In order to be redesignated from nonattainment to attainment, the state will need to meet the statutory criteria for a redesignation, including the submission of a SIP to demonstrate that the Area will maintain the NAAQS for ten years following redesignation. Once this CDD is finalized and while it is in place, Maryland does not have an obligation to submit a future nonattainment planning SIP, and that suspension remains until the Area is redesignated to attainment (after which time such requirements are permanently discharged), or until EPA determines that the Area has re-violated the SO2 NAAQS and rescinds the CDD. In the event the Area re-violates the NAAQS, and EPA rescinds the CDD, the state's obligation to submit all required attainment plan elements for the nonattainment Area will be reinstated.

EPA received no other comments, on either the determination of attainment or on EPA's proposed approval of selected elements of Maryland's January 30, 2020 attainment plan for the Area. After consideration of public comments received, EPA is finalizing the August 19, 2022 (87 FR 51006) proposed finding that the Anne Arundel-Baltimore County Area is attaining the 2010 SO2 NAAQS. EPA is therefore finalizing the CDD for the Area.

IV. Final Action

EPA is approving the CDD for the Anne Arundel-Baltimore County, Maryland nonattainment area, the complete description of which can be found at 40 CFR 81.321.³

³ The nonattainment area consists of “portions of Anne Arundel County that are within 26.8 kilometers (16.7miles) of Herbert A. Wagner's Unit 3 stack, which is located at 76.52752 W. longitude, 39.17765 N. latitude (-76.52752, 39.17765), and portions of Baltimore County that are within 26.8 kilometers (16.7 miles) of Herbert A. Wagner's Unit 3 stack,” at the same latitude and longitude. Excluded from the nonattainment area is Baltimore City—portions of which are located within a 26.8 kilometers (16.7 miles) radius of the Wagner Unit 3 stack.

EPA's final determination suspends the requirements for an attainment demonstration and certain other associated nonattainment planning requirements for the Anne Arundel-Baltimore nonattainment area so long as the Area continues to attain the 2010 SO2 NAAQS. As indicated in the proposal on this action, a final CDD action suspends certain planning requirements for a CAA part D nonattainment area SIP, including: an attainment demonstration, RACM/RACT, enforceable emission limitations and control measures, RFP plan, and contingency measures. This final action does not constitute a redesignation of the Anne Arundel-Baltimore County Area to attainment of the 2010 SO2 NAAQS under section 107(d)(3) of the CAA. The Area will remain designated nonattainment for the 2010 SO2 NAAQS until such time as EPA determines that the Area meets the CAA requirements for redesignation to attainment and takes further action to redesignate the Area.

Following approval of a CDD for the Area, the State remains obligated to submit the non-attainment planning requirements, including a base year emissions inventory and a showing that the area is covered by an EPA-approved NNSR program. EPA is finalizing approval (as proposed in our August 19, 2022 proposal) of the base year emission inventory and NNSR program elements of the attainment plan SIP revision for the Anne Arundel-Baltimore Area submitted by Maryland to EPA on January 31, 2020. EPA has determined that Maryland's 2014 base year emission inventory for the Area comports with relevant EPA guidance. EPA is also finalizing our approval of Maryland's NNSR program under CAA section 172(c)(5), having determined that the program meets applicable requirements for NNSR under CAA section 173 for SO2 sources undergoing construction or major modification in the Area. EPA's final action to issue the CDD and to approve the emissions inventory and NNSR elements of Maryland's SIP discharges EPA's duty under the consent decree entered in Center for Biological Diversity, et al., v. Regan, Case No. 4-21-cv-06166-JST (N.D. Cal.), to no later than October 31, 2022, take action on the emissions inventory and NNSR elements of Maryland's SIP submission, and also automatically terminates EPA's obligation under that consent decree to take final action on the attainment demonstration, RACM/RACT, RFP and contingency measure elements of Maryland's submission.

Finally, EPA is approving as SIP strengthening measures two consent orders between MDE and the owners of two major SO2 emissions sources in the Area. These consent orders were submitted as part of the January 30, 2020 Maryland attainment plan for the Area and impose SO2 emission limitation requirements and operational constraints on those sources.⁴ EPA is incorporating these two consent orders by reference into the Maryland SIP, as proposed in the August 19, 2022 (87 FR 51006) proposed action, which will provide Federal enforceability of the emissions limits and operational constraints provided by those consent orders.

⁴ See Appendix B of the January 30, 2020 attainment plan SIP Revision. Specifically, Appendix B1—Consent Order—Brandon Shores and Wagner Generating Stations, dated December 4, 2019; and Appendix B-2: Consent Order—C.P. Crane Generating Station, dated October 9, 2019.

EPA is not approving in this action any other portion of the January 30, 2020 Maryland attainment plan SIP revision, other than the specific plan elements described above. Elements not being approved as part of this action include the section CAA 172(c)(1) attainment demonstration or RACM/RACT demonstration that were submitted as part of the January 30, 2020 attainment plan revision, the CAA 172(c)(2) RFP plan, the CAA section 172(c)(6) emission limits necessary to provide for attainment, or the CAA section 172(c)(9) contingency measures elements. As noted above, these attainment plan elements are suspended (as is EPA's obligation to promulgate a FIP to address those planning elements) for as long as EPA's CDD for the Area remains in place.

V. Incorporation by Reference

In this document, EPA is finalizing regulatory text that includes incorporation by reference. In accordance with requirements of 1 CFR 51.5, EPA is finalizing the incorporation by reference two consent orders between MDE and Raven Power LLC, and MDE and C.P. Crane LLC, governing SO2 emissions limitations and operating limitations at the Fort Smallwood Complex electric generating stations (i.e., Wagner and Brandon Shores) and the Crane electric generating station—as submitted to EPA as Appendix B of Maryland's January 30, 2020, SO2 attainment plan SIP revision. The emissions limitations and operating restrictions on the affected SO2 sources are described below and in Section IV of this preamble. EPA has made, and will continue to make, these materials generally available through www.regulations.gov and at the EPA Region III Office (please contact the person identified in the FOR FURTHER INFORMATION CONTACT section of this preamble for more information).

The two consent orders being incorporated by reference into the SIP establish SO2 emission limits for these facilities (beginning in January 2019 and additional limits beginning in 2021), as summarized herein. Effective October 2019, Crane Units 1 and 2 are limited to combined SO2 emissions of 2,900 pounds per hour (lbs/hr SO2). Beginning January 2021, Brandon Shores Units 1 and 2 and Wagner Unit 3 combined (whether operating individually or in tandem) are limited to 3,860 lb/hr SO2, on a 30-day rolling average basis. Beginning January 2021, Brandon Shores Units 1 and 2 (operating either individually or in tandem) shall not exceed a cumulative total of 435 hours per calendar year when the applicable units are operating at a combined S02 emissions rate greater than 2,851 pounds per hour. Beginning January 2021, Brandon Shores Units 1 and 2 cannot exceed 9,980 lbs/hr SO2, on a 3-hour rolling average basis. Beginning January 2021, Brandon Shores Units 1 and 2 combined are limited to three hours per calendar year with combined emissions greater than 5,150 lbs/hr SO2 (on a 1-hour average basis) when Wagner Unit 3 is not operating; and are limited to 435 hours per calendar year of combined emissions greater than 2,851 lbs/hr SO2 when Wagner Unit 3 is also operating. Wagner Unit 3 alone cannot emit more than 3,289 lbs/hr SO2 (on a 1-hour averaging basis); is limited to emitting 1,904 lbs/hr SO2 (on a 30-day rolling average); and is limited to 336 hours per calendar year of emissions greater than 2,299 lbs/hr SO2 (on a 1-hour averaging basis).

Beginning January 2021, Wagner Unit 1 alone shall not emit more than 480 lbs/hour SO2 (on a 1-hour averaging basis); and is limited to operating 438 hours per calendar year burning fuel oil. Beginning January 2021, at all times when operating, Wagner Unit 3 shall not exceed 1,904 lbs/hr SO2 (as measured on a 30-day rolling average); and Unit 3 shall not exceed a maximum rate of 3,289 lbs/hr SO2 at all times when operating (on a 1-hour average basis). Beginning January 2021, at all times when operating, Wagner Unit 3 shall not exceed a cumulative total operation of 336 hours per calendar year when the Unit's S02 emissions rate is greater than 2,299 lbs/hr SO2 (on a one-hour average basis). Beginning January 2021, Wagner Unit 4 alone cannot emit more than 1,350 lbs/hr SO2 (on a 1-hour average basis); and is limited to operating 438 hours per calendar year using fuel oil—though both Units 1 and 4 can operate additional hours each year using natural gas. By July 2020, Wagner Unit 2 was required to cease operation or to convert from burning coal to burning natural gas.

EPA has reviewed Maryland's consent decrees with major SO2 emission sources in the Area formalizing specific SO2 emission limits and emissions control requirements for those large SO2 sources (as described above) under a consent order between MDE and Raven Power Fort Smallwood LLC and a consent order between MDE and C.P. Crane LLC that require enforceable SO2 limits and operational limitations at the Fort Smallwood Complex and at the Crane facility.⁵ By incorporating these consent decrees between MDE and Raven Power into the Maryland SIP, EPA's incorporation by reference of these two consent orders strengthens the SIP and makes these additional permitted limits and operating conditions federally enforceable. This action is being taken under sections 110 and 113 of the CAA. As of the effective date of the final rulemaking of EPA's approval, these consent orders are incorporated by reference, to be reflected in the next update to the SIP compilation.⁶

⁵ See Appendix B of Maryland's January 30, 2020 attainment plan SIP revision request to EPA. Specifically, Appendix B1—Consent Order—Brandon Shores and Wagner Generating Stations, dated December 4, 2019; and Appendix B-2: Consent Order—C.P. Crane Generating Station, dated October 9, 2019.

⁶ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, EPA's action to approve the emissions inventory and NNSR submissions merely approves state law as meeting Federal requirements and does not impose additional requirements beyond those imposed by state law. EPA's issuance of the CDD makes a determination of attainment and does not impose additional requirements beyond those imposed by state law. For these reasons, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by January 3, 2023. Filing a petition for reconsideration by the Administrator of this final rule does not affect the finality of this action for the purposes of judicial review nor does it extend the time within which a petition for judicial review may be filed and shall not postpone the effectiveness of such rule or action.

This final CDD action and accompanying final approval of select elements of Maryland's January 30, 2020 SO2 attainment plan may not be challenged later in proceedings to enforce this action's requirements. (See section 307(b)(2).)

List of Subjects in 40 CFR Part 52

Environmental protection, Air pollution control, Incorporation by reference, Intergovernmental relations, Reporting and recordkeeping requirements, Sulfur oxides.

Adam Ortiz,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart V—Maryland

2. Amend § 52.1070:

a. In the table in paragraph (d) by adding entries “Raven Power Fort Smallwood LLC—Brandon Shores Electric Generating Station Units 1 and 2; and H.A. Wagner Electric Generating Station Units 1, 2, 3, and 4” and “C.P. Crane LLC—C.P. Crane Electric Generating Station Units 1 and 2” at the end of the table; and

b. In the table in paragraph (e) by adding entries “2014 SO2 Base Year Emissions Inventory for the Anne Arundel-Baltimore County Area for the 2010 SO2 Sulfur Dioxide NAAQS” and “2010 1-Hour SO2 Sulfur Dioxide NAAQS Nonattainment New Source Review Requirements” at the end of the table.

The additions read as follows:

§ 52.1070 Identification of plan.

* * * * *

(d) * * *

Name of source | Permit No./type | State effective date | EPA approval date | Additional explanation
* * * * * * *
Raven Power Fort Smallwood LLC—Brandon Shores Electric Generating Station Units 1 and 2; and H.A. Wagner Electric Generating Station Units 1, 2, 3, and 4 | Consent Order for Brandon Shores and Wagner Generating Stations for Sulfur Dioxide Emissions Limits and Operational Constraints | 12/4/2019 | 11/2/2022, [Insert Federal Register Citation] | Consent Order approved via Docket EPA-R03-OAR-2020-0325, as an element of Maryland's January 30, 2020 attainment plan for the Anne Arundel-Baltimore Nonattainment Area under the 2010 1-hour SO2 NAAQS.
C.P. Crane LLC—C.P. Crane Electric Generating Station Units 1 and 2 | Consent Order for Crane Generating Station for Sulfur Dioxide Emissions Limits and Cessation of Coal-fired Combustion | 10/9/2019 | 11/2/2022, [Insert Federal Register Citation] | Consent Order approved via Docket EPA-R03-OAR-2020-0325, as an element of Maryland's January 30, 2020 attainment plan for the Anne Arundel-Baltimore Nonattainment Area under the 2010 1-hour SO2 NAAQS.

(e) * * *

Name of non-regulatory SIP revision | Applicable geographic area | State submittal date | EPA approval date | Additional explanation
* * * * * * *
2014 SO2 Base Year Emissions Inventory for the Anne Arundel-Baltimore County Area for the 2010 SO2 Sulfur Dioxide NAAQS | Anne Arundel- Baltimore County SO2 Nonattainment Area, as defined at 40 CFR 81.321 | 01/30/2020 | 11/2/2022, [Insert Federal Register Citation] |
2010 1-Hour SO2 Sulfur Dioxide NAAQS Nonattainment New Source Review Requirements | Anne Arundel- Baltimore County SO2 Nonattainment Area | 01/30/2020 | 11/2/2022, [Insert Federal Register Citation] | EPA approved Maryland's Nonattainment New Source Review (NNSR) program under COMAR 26.11.17 into the Maryland SIP most recently on August 2, 2012 and July 13, 2015.

4. Amend § 52.1082 by adding paragraph (l) to read as follows:

§ 52.1082 Determinations of attainment.

* * * * *

(l) EPA has determined, as of November 2, 2022, that based on 2019 to 2021 ambient air quality monitoring data and air dispersion modeling, the Anne Arundel-Baltimore County nonattainment area has attained the 2010 1-hour sulfur dioxide NAAQS. This clean data determination suspends the requirement for this area to submit an attainment demonstration, associated reasonably available control measures, a reasonable further progress plan, contingency measures, and other sulfur dioxide NAAQS attainment plan SIP elements for as long as this area continues to meet the 2010 1-hour sulfur dioxide NAAQS.

[FR Doc. 2022-23709 Filed 11-1-22; 8:45 am]

BILLING CODE 6560-50-P